DEPARTMENT OF THE INTERIOR

National Park Service

National Register of Historic Places; Notification of Pending Nominations

Nominations for the following properties being considered for listing in the National Register were received by the National Park Service before June 10, 2000.

Pursuant to § 60.13 of 36 CFR Part 60 written comments concerning the significance of these properties under the National Register criteria for evaluation may be forwarded to the National Register, National Park Service, 1849 C St. NW, NC400, Washington, DC 20240. Written comments should be submitted by July 5, 2000.

Carol D. Shull,
Keeper of the National Register.

ARKANSAS

Cleveland County

Federal Building, 20 Magnolia St., Rison, 00000752

GEORGIA

Appling County

United States Post Office—Baxley, Georgia, 124 Tippins St., Baxley, 00000755

De Kalb County

United States Post Office—Decatur, Georgia, 141 Trinity Place, Decatur, 00000753

Troup County

Stark Mill and Mill Village Historic District, Roughly bounded by Lincoln, Askew, Church, Keith, and Brazil Sts, Whaley Ave. and the Hogansville city limits, Hogansville, 00000754

IDAHO

Canyon County

Dorman, Henry W. and Ida Frost, House, 114 Logan St., Caldwell, 00000756

KANSAS

Dickinson County

Brewer Scout Cabin, Solomon City Park, 100 E. 4th St., Solomon, 00000770

Doniphan County

St. Martha's AME Church and Parsonage, SW corner of Main and Canada, Highland, 00000757

Johnson County

McCarthy, John, House, 19700 Sunflower Rd., Edgerton, 00000758

MAINE

Aroostook County

Maple Grove Friends Church, West Side of Rte 1-A, 0.25 mi. N of jct with Upcountry (Fairmount Rd.), Maple Grove, 00000764

Monticello Grange #338, Main St., 0.7 mi. S of jct. with Muckatee Rd., Monticello, 00000760

Hancock County

St. Mary's-By-The-Sea, 20 S. Shore Rd., Northeast Harbor, 00000761

Sagadahoc County

Mill Cove School, West Side of Berrys Mill Rd., 0.1 mi S. of jct. with Hill Rd., Bath, 00000763

Somerset County

Pittston Farm, West End of Seboomook Lake, at Confluence with the S. Branch of Penobscot R., Pittston Academy Grant, 00000762

Washington County

Union Church, (former), Main St., 0.1 mi NE of jct. with Addison Rd., Columbia Falls, 00000759

NEBRASKA

Buffalo County

Kearney Junior High School, 300 W. 24th St., Kearney, 00000766

Cedar County

Saints Peter and Paul Catholic Church Complex, 106 W. 889th Rd., Bow Valley, 00000765

Chase County

Balcony House, 1006 Court St., Imperial, 00000767

Hall County

Gloe Brothers Service Station, 609 E. 11th St., Wood River, 00000768

NORTH CAROLINA

Lee County

Hawkins Avenue Historic District, (Lee County MPS) Roughly bounded by Hill Ave., First St., Charlotte Ave., and Horner Blvd., Sanford, 00000771

TENNESSEE

Haywood County

Republican Primitive Baptist Church, (Rural African-American Churches in Tennessee MPS) 350 Raymond Taylor Rd., Brownsville, 00000769

TEXAS

Bexar County

Lavaca Historic District, Roughly bounded by S. Alamo St., S. Presa St., alley bet. Camargo St., Callahan Ave., Labor St., and Garfield Alley, San Antonio, 00000773

San Antonio City Cemeteries Historic District, Old, Roughly bounded by Nevada, New Braunfels, Paso Hondo, Palmetto, Potomac, St. James, Pine, E. Commerce, Dakota, Monumenta-San Antonio, 00000772

VIRGINIA

Newport News Independent city

First Baptist Church—Newport News, 119 29th St., Newport News, 00000774

WEST VIRGINIA

Mason County

McCausland, Gen. John, House (Boundary Increase), Grape Hill, Leon, 00000778

Mineral County

Stewart's Tavern, Short Gap Rd., Short Gap, 00000776

Morgan County

Sunset Hill, Flat Mountian Rd., Alderson, 00000777

Putnam County

Putnam County Courthouse, 3389 Winfield Rd., Winfield, 00000775

WISCONSIN

Ozaukee County

Moquon Town Hall and Fire Station Complex, 11333 N. Cedarburg Rd., Mequon, 00000779

Wood County

Pleasant Hill Residential Historic District, Roughly bounded by E. First St., Ash Ave., E. Fourth St., and S. Cedar Ave., Marshfield, 00000780

[FR Doc. 00-15373 Filed 6-16-00; 8:45 am]

BILLING CODE 4310-70-P